DEPARTMENT OF TRANSPORTATION

Federal Aviation Administration

14 CFR Part 39

[Docket No. FAA-2013-0797; Directorate Identifier 2013-NM-007-AD]

RIN 2120-AA64

Airworthiness Directives; The Boeing Company Airplanes

AGENCY: Federal Aviation Administration (FAA), DOT.

ACTION: Supplemental notice of proposed rulemaking (NPRM); reopening of comment period.

SUMMARY: We are revising an earlier proposed airworthiness directive (AD) for certain The Boeing Company Model 767-300 and 767-300F series airplanes. The NPRM proposed to require modification and installation of components in the main equipment center. For certain other airplanes, the NPRM proposed to require modification, replacement, and installation of flight deck air relief system (FDARS) components. The NPRM was prompted by reports of malfunctions in the flight deck display units, which resulted in blanking, blurring, or loss of color on the display. This action revises the NPRM by revising the applicability; adding certain modifications; and clarifying certain requirements. We are proposing this supplemental NPRM (SNPRM) to prevent malfunctions of the flight deck display units, which could affect the ability of the flightcrew to read the displays for airplane attitude, altitude, or airspeed, and consequently reduce the ability of the flightcrew to maintain control of the airplane. Since these actions impose an additional burden over that proposed in the NPRM, we are reopening the comment period to allow the public the chance to comment on these proposed changes.

DATES: We must receive comments on this SNPRM by July 11, 2016.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this SNPRM, contact Boeing Commercial Airplanes, Attention: Data & Services Management, P.O. Box 3707, MC 2H-65, Seattle, WA 98124-2207; telephone: 206-544-5000, extension 1; fax: 206-766-5680; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2013-0797.

Examining the AD Docket

You may examine the AD docket on the Internet at http://www.regulations.gov by searching for and locating Docket No. FAA-2013-0797; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Francis Smith, Aerospace Engineer, Cabin Safety and Environmental Controls Branch, ANM-150S, FAA, Seattle Aircraft Certification Office, 1601 Lind Avenue SW., Renton, WA 98057-3356; phone: 425-917-6596; fax: 425-917-6590; email: francis.smith@faa.gov.

SUPPLEMENTARY INFORMATION:

Comments Invited

We invite you to send any written relevant data, views, or arguments about this proposed AD. Send your comments to an address listed under the ADDRESSES section. Include “Docket No. FAA-2013-0797; Directorate Identifier 2013-NM-007-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued an NPRM to amend 14 CFR part 39 by adding an AD that would apply to certain The Boeing Company Model 767-300 and 767-300F series airplanes. The NPRM published in the Federal Register on September 25, 2013 (78 FR 58970) (“the NPRM”). The NPRM proposed to require modification and installation of components in the main equipment center. For certain other airplanes, the NPRM proposed to require modification, replacement, and installation of FDARS components.

Actions Since the NPRM Was Issued

Since we issued the NPRM, we have reviewed Boeing Alert Service Bulletin 767-21A0245, Revision 2, dated September 27, 2013 (for Model 767-300F series airplanes). We referred to Boeing Alert Service Bulletin 767-21-0245, Revision 1, dated September 30, 2010, as an appropriate source of service information for accomplishing certain actions specified in the NPRM. Boeing Alert Service Bulletin 767-21A0245, Revision 2, dated September 27, 2013, adds instructions for modifications to reduce noise in the flight compartment when the 3-way valve is operating by removing flex ducts that connect the center and aft parts of the air distribution diffuser in the main deck cargo compartment, installing caps and an orifice assembly in the area forward of the main equipment center and under the flight deck floor, and installing an FDARS. Boeing Alert Service Bulletin 767-21A0245, Revision 2, dated September 27, 2013, also identifies concurrent actions (relay installation and related wiring changes). Those concurrent actions are described in Boeing Service Bulletin 767-21-0235, dated October 8, 2009; and Boeing Service Bulletin 767-21-0235, Revision 1, dated July 29, 2011.

We have also reviewed Boeing Alert Service Bulletin 767-21A0247, Revision 1, dated April 9, 2013 (for Model 767-300F series airplanes). We referred to Boeing Alert Service Bulletin 767-21A0247, dated October 10, 2011, as an appropriate source of service information for accomplishing certain actions specified in the NPRM. Boeing Alert Service Bulletin 767-21A0247, Revision 1, dated April 9, 2013, adds airplanes to the effectivity of the service bulletin and includes procedures for changes to the 3-way valve control logic, modifications to reduce noise in the flight compartment and main cargo air distribution system (MCADS), and installation of an FDARS. The service bulletin also adds concurrent actions (relay installation and related wiring changes) for a certain group of airplanes. Those concurrent actions are described in Boeing Service Bulletin 767-21-0235, dated October 8, 2009; and Boeing Service Bulletin 767-21-0235, Revision 1, dated July 29, 2011.

We also have reviewed Boeing Service Bulletin 767-31-0073, dated October 12, 1995, which is referred to as concurrent service information in Boeing Service Bulletin 767-21-0244, Revision 1, dated March 8, 2010 (which is referred to as an appropriate source of service information for changing the 3-way valve control logic and installing a cooling system for the flight deck display equipment). Boeing Service Bulletin 767-31-0073, dated October 12, 1995, describes procedures for installation of an in-flight engine indication and crew alerting system (EICAS) for the maintenance data selection system.

We have revised paragraphs (c)(2), (h)(1), and (j) of this proposed AD to refer to Boeing Alert Service Bulletin 767-21A0245, Revision 2, dated September 27, 2013. We have also revised paragraphs (c)(3) and (h)(2) of this proposed AD to refer to Boeing Alert Service Bulletin 767-21A0247, Revision 1, dated April 9, 2013.

In addition, we removed paragraph (k) of the proposed AD (in the NPRM), “Credit for Previous Actions,” from this proposed AD because operators that have accomplished the actions in Boeing Service Bulletin 767-21-0245, dated April 16, 2010; or Boeing Alert Service Bulletin 767-21A0245, Revision 1, dated September 30, 2010; must do additional work when accomplishing the procedures specified in Boeing Alert Service Bulletin 767-21A0245, Revision 2, dated September 27, 2013. We have redesignated paragraph (j) of the proposed AD (in the NPRM), “Concurrent Requirements,” as paragraph (k)(1) of this proposed AD. In addition, we have added a new paragraph (k)(2) to this proposed AD to address the concurrent actions (relay installation and related wiring changes) identified in Boeing Alert Service Bulletin 767-21A0247, Revision 1, dated April 9, 2013.

Also since the issuance of the NPRM, we have reviewed Boeing Alert Service Bulletin 767-21A0254, dated June 7, 2013 (which was not referenced in the NPRM). Boeing Alert Service Bulletin 767-21A0254, dated June 7, 2013, describes procedures for installing the FDARS and activating the 3-way valve control logic change for certain Model 767-300F series airplanes. We have redesignated paragraph (g) of the proposed AD (in the NPRM) as paragraph (g)(1) of this proposed AD, and added a new paragraph (g)(2) to this proposed AD to require the actions in Boeing Alert Service Bulletin 767-21A0254, dated June 7, 2013.

Comments

We gave the public the opportunity to comment on the NPRM. The following presents the comments received on the NPRM and the FAA's response to each comment.

Request To Clarify the Applicability of the Proposed AD (in the NPRM)

Boeing requested we state that the proposed AD (in the NPRM) does not apply to Model 767-300 (passenger) series airplanes. Boeing explained that the 3-way valve control logic for Model 767-300 (passenger) series airplanes is significantly different from the 3-way valve control logic for Model 767-300F and Model 767-300BCF (Boeing Converted Freighter) series airplanes. Boeing indicated that, on Model 767-300 (passenger) series airplanes, pack air (which is a moisture source on the freighter airplanes) to the flight deck instruments and equipment is rarely used. Boeing added that Model 767-300 (passenger) series airplanes only utilize airplane pack air during override and fuel jettison modes, and there have not been reports of moisture-related display blanking on these airplanes.

We find that clarification is necessary. This proposed AD applies to Model 767-300 and 767-300F series airplanes, as identified in certain service information. “Model 767-300 series airplanes” could include both passenger and BCF series airplanes. According to the U.S. type certificate data sheet for Model 767 airplanes, a Model 767-300BCF series airplane is a Model 767-300 (passenger) series airplane that has been modified in accordance with specific service information to operate in a freighter configuration. The service information identified in the applicability of this proposed AD addresses Model 767-300BCF series airplanes and Model 767-300F series airplanes—not passenger airplanes. Therefore, this proposed AD does not apply to Model 767-300 (passenger) series airplanes. We have added this clarification to paragraphs (c), (i), and (k)(3) of this proposed AD.

Request To Revise the Proposed AD (in the NPRM) To Remove Certain Service Information References

Boeing asked that all references to Boeing Service Bulletin 767-21-0240 be removed from the NPRM, including the applicability statement. Boeing stated that the intent of this service information is to incorporate display improvements on Model 767-300BCF series airplanes. Boeing has confirmed that the actions to prevent display unit blanking included in Boeing Service Bulletin 767-21-0240 have already been incorporated on Model 767-300BCF series airplanes during the conversion, prior to re-delivery.

Boeing also asked that all references to Boeing Service Bulletin 767-21-0244 be removed from the NPRM, including the applicability statement. Boeing stated that the intent of this service information is also to incorporate display improvements on Model 767-300BCF series airplanes. Boeing has confirmed that the actions to prevent display unit blanking included in Boeing Service Bulletin 767-21-0244 have already been incorporated on Model 767-300BCF series airplanes in advance of this proposed AD.

Since Boeing Service Bulletin 767-21-0240 has been incorporated on the affected airplanes during the conversion and prior to re-delivery, we agree with the commenter's request to remove references to that service bulletin from this proposed AD. Paragraph (c) of this proposed AD has been revised to omit Boeing Service Bulletin 767-21-0240, Revision 1, dated November 12, 2009, from paragraph (c)(1), and subsequent subparagraphs in paragraph (c) have been redesignated accordingly.

However, we do not agree with the commenter's request to remove references to Boeing Service Bulletin 767-21-0244 from this proposed AD. The commenter has not submitted documentation to the FAA for verification that the affected operators of Model 767-300BCF series airplanes have accomplished the actions to prevent display unit blanking that are included in Boeing Service Bulletin 767-21-0244, Revision 1, dated March 8, 2010. Therefore, Boeing Service Bulletin 767-21-0244, Revision 1, dated March 8, 2010, is still referenced in this proposed AD.

Paragraph (h)(3) of the proposed AD (in the NPRM) has been omitted from this proposed AD because it referred to Boeing Service Bulletin 767-21-0240, Revision 1, dated November 12, 2009 (which affects airplanes on which the service information has been done during the conversion and prior to re-delivery), and the airplanes identified in this service information have been removed from the applicability of this proposed AD, as explained previously. However, the requirements for the remaining Model 767-300BCF series airplanes (i.e., those subject to accomplishment of Boeing Service Bulletin 767-21-0244) have been moved from paragraph (h)(3) of the proposed AD (in the NPRM) to new paragraph (i) of this proposed AD. Paragraph (k) of this proposed AD, which correlates to paragraph (j) of the proposed AD (in the NPRM), has been revised to remove the concurrent requirements for Model 767-300BCF series airplanes identified in Boeing Service Bulletin 767-21-0240, Revision 1, dated November 12, 2009. The concurrent requirements for Model 767-300BCF series airplanes identified in Boeing Service Bulletin 767-21-0244, Revision 1, dated March 8, 2010, are retained in paragraph (k)(3) of this proposed AD.

Request To Clarify the Requirements of the Proposed AD (in the NPRM)

Boeing requested that the requirements of the proposed AD for Model 767-300BCF versus Model 767-300F series airplanes be clarified. Boeing stated that the intended function of the 3-way valve control logic change is to provide moisture control to mitigate display blanking; however, the intended function of the FDARS is to mitigate the noise that resulted from the 3-way valve control logic change, not to control moisture and mitigate display blanking. Boeing stated that the proposed 3-way valve control logic change and addition of the FDARS should be required for Model 767-300F series airplanes, and only the 3-way valve control logic change should be required for Model 767-300BCF series airplanes.

We agree to clarify the requirements of this proposed AD. In light of the commenter's remarks, we revised paragraphs (g)(1) and (g)(2) of this proposed AD to state that, for Model 767-300F series airplanes, the required actions include the installation of an FDARS and activation of or change to the 3-way valve control logic. We also revised the heading for paragraph (g) of this proposed AD accordingly.

In addition, we revised paragraphs (h)(1) and (h)(2) of this proposed AD to state that, for Model 767-300F series airplanes identified in Boeing Alert Service Bulletin 767-21A0245, Revision 2, dated September 27, 2013, and Boeing Alert Service Bulletin 767-21A0247, Revision 1, dated April 9, 2013, respectively, the required actions include a change of the 3-way valve control logic and MCADS, and installation of an FDARS. We also revised the heading for paragraph (h) of this proposed AD accordingly.

As previously discussed, a new paragraph (i) is included in this proposed AD. This paragraph specifies that, for Model 767-300BCF series airplanes, only the installation of the 3-way valve control logic and flight deck display equipment cooling system is required. The subsequent paragraphs have been redesignated accordingly.

Request To Revise the Number of Affected Airplanes

Boeing requested that the number of affected airplanes be changed from 43 to 58. Boeing stated that based on its current records of operators, there are 58 Model 767-300F series airplanes of U.S. registry.

Based on the number of affected Model 767-300 and 767-300F series airplanes currently on the U.S. Register, we changed the number of affected airplanes to 52 in the “Costs of Compliance” section of this SNPRM. We also made additional changes to the “Costs of Compliance” section to account for any added requirement of this proposed AD.

Effect of Winglets on Accomplishment of the Proposed Actions

Aviation Partners Boeing stated that the installation of winglets per Supplemental Type Certificate (STC) ST01920SE (http://rgl.faa.gov/Regulatory_and_Guidance_Library/rgstc.nsf/0/59027f43b9a7486e86257b1d006591ee/$FILE/ST01920SE.pdf) does not affect the accomplishment of the manufacturer's service instructions.

We agree with the commenter that STC ST01920SE (http://rgl.faa.gov/Regulatory_and_Guidance_Library/rgstc.nsf/0/59027f43b9a7486e86257b1d006591ee/$FILE/ST01920SE.pdf) does not affect the accomplishment of the manufacturer's service instructions. Therefore, the installation of STC ST01920SE does not affect the ability to accomplish the actions required by this AD. We have not changed this SNPRM in this regard.

Additional Change Made to This Proposed AD

We incorrectly referred to the original issue date of Boeing Service Bulletin 767-21-0235 as July 29, 2011, throughout the NPRM. We have specified the correct date of the original issue of Boeing Service Bulletin 767-21-0235 as October 8, 2009, in paragraphs (j) and (k) of this proposed AD.

Related Service Information Under 1 CFR Part 51

We reviewed the following service information.

• Boeing Alert Service Bulletin 767-21A0245, Revision 2, dated September 27, 2013. The service information describes procedures for changing the 3-way valve control logic and MCADS, and installing an FDARS.

• Boeing Alert Service Bulletin 767-21A0247, Revision 1, dated April 9, 2013. The service information describes procedures for changing the 3-way valve control logic and MCADS and installing an FDARS.

• Boeing Alert Service Bulletin 767-21A0253, dated October 12, 2012. The service information describes procedures for replacing the existing duct, installing an FDARS, changing the 3-way valve control logic, and installing a new altitude switch and pitot tube.

• Boeing Alert Service Bulletin 767-21A0254, dated June 7, 2013. The service information describes procedures for replacing the existing duct with a new duct; installing an FDARS; and activating the 3-way valve control logic.

• Boeing Service Bulletin 767-21-0235, dated October 8, 2009; and Boeing Service Bulletin 767-21-0235, Revision 1, dated July 29, 2011. The service information describes procedures for the relay installation and related wiring changes.

• Boeing Service Bulletin 767-21-0244, Revision 1, dated March 8, 2010. The service information describes procedures for changing the 3-way valve control logic and installing a cooling system for the flight deck display equipment.

• Boeing Service Bulletin 767-31-0073, dated October 12, 1995. The service information describes procedures for installation of an in-flight EICAS for the maintenance data selection system.

This service information is reasonably available because the interested parties have access to it through their normal course of business or by the means identified in the ADDRESSES section.

FAA's Determination

We are proposing this SNPRM because we evaluated all the relevant information and determined the unsafe condition described previously is likely to exist or develop in other products of the same type design. Certain changes described above expand the scope of the NPRM. As a result, we have determined that it is necessary to reopen the comment period to provide additional opportunity for the public to comment on this SNPRM.

Requirements of This Proposed AD

This proposed AD would require, depending on airplane model and configuration, the following actions:

• Replacing the existing duct with a new duct.

• Installing an FDARS.

• Changing or activating the 3-way valve control logic.

• Installing a new altitude switch and pitot tube.

• Changing the 3-way valve control logic and MCADS.

• Installing a flight deck display equipment cooling system.

• Doing a relay installation and related wiring changes.

• Installing an in-flight EICAS for the maintenance data selection system.

Refer to the service information described previously for details on the procedures and compliance times.

Costs of Compliance

We estimate that this proposed AD affects 52 airplanes of U.S. registry.

We estimate the following costs to comply with this proposed AD:

Estimated Costs
Action | Labor cost | Parts cost | Cost per product | Cost on U.S. operators
3-way valve control logic and MCADS change, and installation of an FDARS (Boeing Alert Service Bulletin 767-21A0247, Revision 1, dated April 9, 2013; Groups 2 and 3 airplanes) | 46 work-hours × $85 per hour = $3,910 | $21,865 | $25,775 | $1,185,650 (46 airplanes).
3-way valve control logic and MCADS change, and installation of an FDARS (Boeing Alert Service Bulletin 767-21A0245, Revision 2, dated September 27, 2013) | 64 work-hours × $85 per hour = $5,440 | 18,315 | 23,755 | 47,510 (2 airplanes).
Replacement of the existing duct, installation of an FDARS, 3-way valve control logic change, and installation of a new altitude switch and pitot tube (Boeing Alert Service Bulletin 767-21A0253, dated October 12, 2012) | 76 work-hours × $85 per hour = $6,460 | 55,663 | 62,123 | 248,492 (4 airplanes).
3-way valve control logic change and installation of a flight deck display equipment cooling system (Boeing Service Bulletin 767-21-0244, Revision 1, dated March 8, 2010) | 33 work-hours × $85 per hour = $2,805 | 0 | 2,805 | 8,415 (3 airplanes).
Relay installation and related wiring changes (Boeing Service Bulletin 767-21-0235, dated October 8, 2009; or Boeing Service Bulletin 767-21-0235, Revision 1, dated July 29, 2011) | Up to 10 work-hours × $85 per hour = up to $850 | Up to $955 | Up to $1,805 | Up to $88,445 (49 airplanes).
Installing an in-flight EICAS for the maintenance data selection system (Boeing Service Bulletin 767-31-0073, dated October 12, 1995) | Up to 13 work-hours | Up to $3,535 | Up to $4,640 | Up to $13,920 (3 airplanes).
Replacement of the existing duct, installation of an FDARS and activation of 3-way valve control logic (Boeing Alert Service Bulletin 767-21A0254, dated June 7, 2013) | 51 work-hours × $85 per hour = $4,335 | 16,338 | 20,673 | (0 airplanes).

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2013-0797; Directorate Identifier 2013-NM-007-AD.

(a) Comments Due Date

We must receive comments by July 11, 2016.

(b) Affected ADs

None.

(c) Applicability

This AD applies to The Boeing Company Model 767-300 and 767-300F series airplanes, certificated in any category; as identified in the service information specified in paragraphs (c)(1) through (c)(5) of this AD. This AD does not apply to The Boeing Company Model 767-300 (passenger) series airplanes.

(1) Boeing Service Bulletin 767-21-0244, Revision 1, dated March 8, 2010.

(2) Boeing Alert Service Bulletin 767-21A0245, Revision 2, dated September 27, 2013.

(3) Boeing Alert Service Bulletin 767-21A0247, Revision 1, dated April 9, 2013.

(4) Boeing Alert Service Bulletin 767-21A0253, dated October 12, 2012.

(5) Boeing Alert Service Bulletin 767-21A0254, dated June 7, 2013.

(d) Subject

Air Transport Association (ATA) of America Code 21, Air Conditioning.

(e) Unsafe Condition

This AD was prompted by reports of malfunctions in the flight deck display units resulting in blanking, blurring, or loss of color on the display. We are issuing this AD to prevent malfunctions of the flight deck display units, which could affect the ability of the flightcrew to read the displays for airplane attitude, altitude, or airspeed, and consequently reduce the ability of the flightcrew to maintain control of the airplane.

(f) Compliance

Comply with this AD within the compliance times specified, unless already done.

(g) Installation of Flight Deck Air Relief System (FDARS), 3-Way Valve Control Logic Change or Activation, and Additional Actions

(1) For Model 767-300F series airplanes, as identified in Boeing Alert Service Bulletin 767-21A0253, dated October 12, 2012: Within 72 months after the effective date of this AD, in the main equipment center and the area under the left and right sides of the flight deck floor, replace the existing duct with a new duct; install an FDARS (including the installation of mounting brackets, ducts, orifice, outlet valve, and screen); change the 3-way valve control logic (including modification of the associated wiring and related actions); and install a new altitude switch and pitot tube; in accordance with the Accomplishment Instructions of Boeing Alert Service Bulletin 767-21A0253, dated October 12, 2012.

(2) For Model 767-300F series airplanes, as identified in Boeing Alert Service Bulletin 767-21A0254, dated June 7, 2013: Within 72 months after the effective date of this AD, in the main equipment center and the area under the left and right sides of the flight deck floor, replace the existing duct with a new duct; install an FDARS (including the installation of mounting brackets, ducts, orifice, outlet valve, and screen); and activate the 3-way valve control logic (including modification of the associated wiring and related actions); in accordance with the Accomplishment Instructions of Boeing Alert Service Bulletin 767-21A0254, dated June 7, 2013.

(h) Installation of FDARS and a 3-Way Valve Control Logic and Main Cargo Air Distribution System (MCADS) Change

(1) For Model 767-300F series airplanes, as identified in Boeing Alert Service Bulletin 767-21A0245, Revision 2, dated September 27, 2013: Within 72 months after the effective date of this AD, in the main equipment center and the area under the left and right sides of the flight deck floor, change the 3-way valve control logic and MCADS, and install an FDARS, in accordance with the Accomplishment Instruction of Boeing Alert Service Bulletin 767-21A0245, Revision 2, dated September 27, 2013, except as provided by paragraph (j) of this AD.

(2) For Model 767-300F series airplanes, as identified in Boeing Alert Service Bulletin 767-21A0247, Revision 1, dated April 9, 2013: Within 72 months after the effective date of this AD, change the 3-way valve control logic and MCADS and install an FDARS, in accordance with the Accomplishment Instructions of Boeing Alert Service Bulletin 767-21A0247, Revision 1, dated April 9, 2013.

(i) Installation of a Flight Deck Display Equipment Cooling System and a 3-Way Valve Control Logic Change

For Model 767-300 series airplanes that have been converted by Boeing to Model 767-300BCF (Boeing Converted Freighter) airplanes, as identified in Boeing Service Bulletin 767-21-0244, Revision 1, dated March 8, 2010: Within 72 months after the effective date of this AD, change the 3-way valve control logic and install a flight deck display equipment cooling system, in accordance with the Accomplishment Instructions of Boeing Service Bulletin 767-21-0244, Revision 1, dated March 8, 2010.

(j) Exception to Paragraph (h)(1) of This AD

For Model 767-300F series airplanes, as identified in Boeing Alert Service Bulletin 767-21A0245, Revision 2, dated September 27, 2013: If the 3-way valve control logic change specified in Boeing Service Bulletin 767-21-0235, dated October 8, 2009; or Revision 1, dated July 29, 2011; is done prior to or concurrent with the actions required by paragraph (h)(1) of this AD, operators need to do only the functional test, FDARS installation, and flex duct change, in accordance with the Accomplishment Instructions of Boeing Alert Service Bulletin 767-21A0245, Revision 2, dated September 27, 2013. Operators do not need to do the other actions specified in the Accomplishment Instructions of Boeing Alert Service Bulletin 767-21A0245, Revision 2, dated September 27, 2013, if the actions in the Accomplishment Instructions of Boeing Service Bulletin 767-21-0235, dated October 8, 2009; or Revision 1, dated July 29, 2011; are done concurrently. If the functional test fails, before further flight, do corrective actions that are approved in accordance with the procedures specified in paragraph (l) of this AD.

(k) Concurrent Requirements

(1) For Groups 1 and 3 airplanes, as identified in Boeing Alert Service Bulletin 767-21A0245, Revision 2, dated September 27, 2013: Prior to or concurrently with accomplishing the requirements of paragraph (h)(1) of this AD, do the relay installation and related wiring changes specified in, and in accordance with, the Accomplishment Instructions of Boeing Service Bulletin 767-21-0235, dated October 8, 2009; or Boeing Service Bulletin 767-21-0235, Revision 1, dated July 29, 2011.

(2) For Group 1 airplanes, as identified in Boeing Alert Service Bulletin 767-21A0247, Revision 1, dated April 9, 2013: Prior to or concurrently with accomplishing the requirements of paragraph (h)(2) of this AD, do the relay installation and related wiring changes specified in, and in accordance with, the Accomplishment Instructions of Boeing Service Bulletin 767-21-0235, dated October 8, 2009; or Boeing Service Bulletin 767-21-0235, Revision 1, dated July 29, 2011.

(3) For Model 767-300 series airplanes that have been converted by Boeing to Model 767-300BCF airplanes, as identified in Boeing Service Bulletin 767-21-0244, Revision 1, dated March 8, 2010: Prior to or concurrently with accomplishing the requirements of paragraph (i) of this AD, do the installation of an in-flight engine indication and crew alerting system (EICAS) for the maintenance data selection system specified in, and in accordance with, the Accomplishment Instructions of Boeing Service Bulletin 767-31-0073, dated October 12, 1995.

(l) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (m)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO, to make those findings. To be approved, the repair method, modification deviation, or alteration deviation must meet the certification basis of the airplane and the approval must specifically refer to this AD.

(m) Related Information

(1) For more information about this AD, contact Francis Smith, Aerospace Engineer, Cabin Safety and Environmental Controls Branch, ANM-150S, FAA, Seattle ACO, 1601 Lind Avenue SW., Renton, WA 98057-3356; phone: 425-917-6596; fax: 425-917-6590; email: francis.smith@faa.gov.

(2) For service information identified in this AD, contact Boeing Commercial Airplanes, Attention: Data & Services Management, P.O. Box 3707, MC 2H-65, Seattle, WA 98124-2207; telephone: 206-544-5000, extension 1; fax: 206-766-5680; Internet https://www.myboeingfleet.com. You may review copies of the referenced service information at the FAA, Transport Airplane Directorate, 1601 Lind Avenue SW., Renton, WA. For information on the availability of this material at the FAA, call 425-227-1221.

Issued in Renton, Washington, on May 17, 2016.
Dionne Palermo,
Acting Manager, Transport Airplane Directorate, Aircraft Certification Service.

[FR Doc. 2016-12353 Filed 5-26-16; 8:45 am]

BILLING CODE 4910-13-P